FEDERAL EMERGENCY MANAGEMENT AGENCY

44 CFR Part 67

Final Flood Elevation Determinations

AGENCY: Federal Emergency Management Agency (FEMA).

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

EFFECTIVE DATE: The date of issuance of the Flood Insurance Rate Map (FIRM) showing BFEs and modified BFEs for each community. This date may be obtained by contacting the office where the FIRM is available for inspection as indicated in the table below.

ADDRESSES: The final BFEs for each community are available for inspection at the office of the Chief Executive Officer of each community. The respective addresses are listed in the table below.

FOR FURTHER INFORMATION CONTACT: Matthew B. Miller, P.E., Chief, Hazards Study Branch, Federal Insurance and Mitigation Administration, FEMA, 500 C Street SW., Washington, DC 20472, (202) 646-3461, or (e-mail) matt.miller@fema.gov.

SUPPLEMENTARY INFORMATION: FEMA makes the final determinations listed below of BFEs and modified BFEs for each community listed. The proposed BFEs and proposed modified BFEs were published in newspapers of local circulation and an opportunity for the community or individuals to appeal the proposed determinations to or through the community was provided for a period of ninety (90) days. The proposed BFEs and proposed modified BFEs were also published in the Federal Register.

This final rule is issued in accordance with Section 110 of the Flood Disaster Protection Act of 1973, 42 U.S.C. 4104, and 44 CFR Part 67.

FEMA has developed criteria for floodplain management in floodprone areas in accordance with 44 CFR Part 60.

Interested lessees and owners of real property are encouraged to review the proof Flood Insurance Study and FIRM available at the address cited below for each community.

The BFEs and modified BFEs are made final in the communities listed below. Elevations at selected locations in each community are shown.

National Environmental Policy Act

This rule is categorically excluded from the requirements of 44 CFR Part 10, Environmental Consideration. No environmental impact assessment has been prepared.

Regulatory Flexibility Act

The Acting Administrator, Federal Insurance and Mitigation Administration certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, Flood insurance, Reporting and recordkeeping requirements.

Accordingly, 44 CFR Part 67 is amended to read as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD)
Alaska
Anchorage (Municipality) Anchorage Division, (FEMA Docket No.B-7415)
Alyeska Creek:
At Mount Hood Drive | *121
Approximately 970 feet upstream of Olympic Circle Entrance | *335
Maps are available for inspection at 4700 South Bagall Street, Anchorage, Alaska.
Oklahoma
City of Yukon, (FEMA Docket No. B-7421)
North Canandian River, Tributary A:
Approximately 3000 feet below Jon Elm Place | *1,260
Approximately 500 feet downstream of U.S. Highway 66 | *1,285
Just above Landmark Drive | *1,300
Main Stem Turtle Creek:
Approximately 35000 feet downstream of U.S. Highway 66 | *1,271
Just upstream of U.S. Highway 66 | *1,286
At confluence of West Branch Turtle Creek and Middle Branch Turtle Creek | *1,293
Middle Branch of Turtle Creek:
At confluence with Main Stem Turtle Creek | *1,293
Just downstream of Vandament Avenue | *1,310
Approximately 1,500 feet upstream of Vandament Avenue | *1,318
Approximately 3,800 feet upstream of Vandament Avenue | *1,332
East Branch of Turtle Creek:
At confluence with Main Stem Turtle Creek | *1,277
At confluence of Cornwell Branch | *1,288
Just downstream of Chicago Rock Island and Pacific Railroad | *1,297
Approximately 300 feet upstream of Vandament Avenue | *1,322
West Branch of Turtle Creek:
At confluence with Main Stem Turtle Creek | *1,293
Just upstream of Yukon Avenue | *1,311
Approximately 1,500 feet upstream of Yukon Avenue | *1,321
Cornwell Branch of East Branch Turtle Creek:
At confluence with East Branch Turtle Creek | *1,288
At intersection of Yukon Avenue and Czech Hall Road | *1,298
Approximately 270 feet upstream of the intersection of Bass Avenue and Czech Hall Road | *1,319
Holly Branch of Middle Branch Turtle Creek:
At confluence with Middle Branch Turtle Creek | *1,314
Approximately 1,400 feet upstream of Holly Avenue | *1,338
North Canadian River:
Approximately 900 feet downstream of Main Street (U.S. Highway 66) | *1,286
Approximately 1,350 feet downstream of Main Street (U.S. Highway 66) | *1,297
North Canadian River, Tributary B, West Branch:
At confluence with North Canadian River Tributary B | *1,291
Approximately 1150 feet upstream of confluence with North Canadian River Tributary B | *1,302
North Canadian River, Tributary C:
Approximately 1,100 feet downstream of Main Street (U.S. Highway 66) | *1,286
Approximately 3,200 feet upstream of Main Street (U.S. Highway 66) | *1,309
North Canadian River, Tributary C, West Branch 1:
At confluence with North Canadian River Tributary C | *1,289
Just downstream of Oil Field Road | *1,322
North Canadian River, Tributary C, West Branch 2:
At confluence with North Canadian River Tributary C | *1,306
Just downstream of Church Hill Road | *1,332
Maps are available for inspection at 528 West Main Street, Yukon, Oklahoma.

Source of flooding and location | #Depth in feet above ground. *Elevation in feet (NGVD) | Communities affected
Iowa
FEMA Docket No. (B-7423)
Iowa River:
Approximately 10,000 feet upstream of the confluence with Snyder Creek Just downstream of U.S. Highway 6 Approximately 4,000 feet upstream of Coralville Dam | *636 *644 *657 | Johnson County, City of Iowa City, City of Coralville.
Ralston Creek:
Just upstream of the North Branch Ralston Creek Detention Dam Approximately 500 feet upstream of Scott Boulevard | *700 *731 | City of Iowa City, Johnson County.
South Branch Ralston Creek:
Just upstream of Scott Boulevard Approximately 3,700 feet upstream of Scott County Boulevard | *723 *727 | City of Iowa City, Johnson County.
North Branch Snyder Creek:
Approximately 4,500 feet downstream of U.S. Route 6 Approximately 2,050 feet upstream of Chicago Rock Island and Pacific Railroad | *650 *668 | City of Iowa City, Johnson County.
Clear Creek:
At confluence with Iowa River Approximately 4,100 feet upstream of Camp Cardinal Road Approximately 5,300 feet downstream of Interstate 80 | *654 *668 *672 | Johnson County, City of Iowa City, City of Tiffin.
Willow Creek:
At confluence with Iowa River Approximately 650 feet upstream of U.S. Route 218 | *642 *721 | City of Iowa City, Johnson County.
West Branch Snyder Creek:
At confluence with North Branch Snyder Creek Approximately 900 feet upstream of the West Spur Railroad | *662 *673 | Johnson County, City of Iowa City.
Middle Branch Willow Creek:
At confluence with Willow Creek Approximately 300 feet upstream of Mormon Trek Boulevard | *677 *690 | City of Iowa City.

Addresses

Johnson County and Unincorporated Areas

City of Iowa City, Iowa:

Maps are available for inspection at the County Courthouse, P.O. Box 325, Allison, Iowa.

City of Tiffin, Iowa:

Maps are available for inspection at Tiffin City Hall, 211 Main Street, Tiffin, Iowa.

City of Coralville:

Maps are available for inspection at the Coralville City Hall, 1512 17th Street, Coralville, Iowa.

Source of flooding and location | #Depth in feet above ground. *Elevation in feet (NGVD). | Communities affected
Missouri
FEMA Docket No. (B-7421)
Joachim Creek:
Approximately 3,500 feet downstream of the New State Highway 110 bridge Approximately 550 feet upstream of Highway E | *474 *525 | City of De Soto.
Joachim Creek:
Approximately 3,000 feet downstream of the New Highway 110 bridge Approximately 1,700 feet upstream of the County Highway E | *474 *528 | Jefferson County (Uninc. Areas).

Addresses

City of De Soto

Maps are available for inspection at City Hall, 17 Boyd Street, De Soto, Missouri.

Jefferson County and Unincorporated Areas

Maps are available for inspection at Jefferson County, Building and Zoning Commission, 300 2nd Street, Hillsboro, Missouri.

Source of flooding and location | #Depth in feet above ground. *Elevation in feet (NGVD) | Communities affected
Nebraska
FEMA Docket No. (B-7420)
Shell Creek:
Approximately 800 feet downstream of County Bridge located at the west section-line of the southwest 1/4 of Section 9, T17N, R4E Approximately 2,000 feet downstream of State Highway 30 Approximately 4,600 feet downstream of State Highway 15 At County Bridge on Colfax/Platte County boundary located approximately 300 feet south of middle of west section Line of Section 19 | *1,331 *1,348 *1,368 *1,445 | Colfax County (Uninc. Areas), City of Schuyler.

Addresses

Colfax County and Unincorporated Areas

Maps are available for inspection at the Community Map Repository, 411 East 11th Street, Schuyler, Nebraska.

City of Schuyler

Maps are available for inspection at 1103 B Street, Schuyler, Nebraska.

Source of flooding and location | #Depth in feet above ground. *Elevation in feet (NGVD) | Communities affected
Oklahoma
FEMA Docket No. (B-7404)
Chisholm Creek:
Approximately 3,900 feet downstream of Danforth Street | *1,052
Just upstream of Memorial Road | *1,124
Just downstream of Hefner Road | *1,167
Chisholm Creek Tributary 3( Pond Creek):
At confluence with Chisholm Creek | *1,049
Just upstream of Danforth Road | *1,074 | City of Edmond, City of Oklahoma City.

Addresses:

City of Edmond

Maps are available for inspection at 100 East First Street, Edmond, Oklahoma.

City of Oklahoma City

Maps are available for inspection at 420 West Main Street, Oklahoma City, Oklahoma.

Source of flooding and location | #Depth in feet above ground. *Elevation in feet (NGVD) | Communities affected
Utah
FEMA Docket No. (B-7421)
Jordan River:
Approximately 3,100 feet downstream of the Golf Cart Bridge at Camp Williams Military Reservation | *4,491
At Cedar Fort Road | *4,493
Approximately 1,400 feet upstream of Saratoga Road | *4,494 | Utah County (Uninc. Areas).
Approximately 3,100 feet downstream of Saratoga Road | *4,493
Approximately 1,400 feet upstream of Saratoga Road | *4,494 | City of Saratoga Springs.
Approximately 3,100 feet downstream of the Golf Cart Bridge at Camp Williams Military Reservation | *4,491
Approximately 1,500 feet downstream of Saratoga Road | *4.493 | City of Lehi.

Addresses:

Utah County and Unincorporated Areas:

Maps are available for inspection at the County Public Works Building, 2855 South State Street, Provo, Utah.

City of Saratoga Springs:

Maps are available for inspection at City Hall, City Manager's Office, 2015 South Redwood, Lehi, Utah.

City of Lehi:

Maps are available for inspection at the Building and Planning Department, 99 West Main Street, Lehi, Utah.

Source of flooding and location | #Depth in feet above ground. *Elevation in feet (NGVD) | Communities affected
Washington
FEMA Docket No. (B-7421)
Wenatchee River:
At confluence with Chumstick Creek | *1,078
At confluence with Icicle Creek | *1,111 | Chelan County (Uninc. Areas).
Wenatchee River:
At confluence with Chumstick Creek | *1,079
At confluence with Icicle Creek | *1,111 | City of Leavenworth.

Addresses

Chelan County and Unincorporated Areas

Maps are available for inspection at Community Map Repository, County Planning Department, 411 Washington Street, Wenatchee, Washington.

City of Leavenworth:

Maps are available for inspection at City Hall, Department of Community Development, 700 Highway 2, Leavenworth, Washington.

(Catalog of Federal Domestic Assistance No. 83.100, “Flood Insurance.”)
Dated: March 13, 2002.
Robert F. Shea,
Acting Administrator, Federal Insurance and Mitigation Administration.

[FR Doc. 02-6574 Filed 3-18-02; 8:45 am]

BILLING CODE 6718-04-P